DEPARTMENT OF COMMERCE

National Oceanic and Atmospheric Administration

RIN 0648-XP69

Marine Mammals; File No. 14502

AGENCY: National Marine Fisheries Service (NMFS), National Oceanic and Atmospheric Administration (NOAA), Commerce.

ACTION: Notice; receipt of application.

SUMMARY: Notice is hereby given that Russell Fielding, Louisiana State University, Room 227, Baton Rouge, Louisiana, 70803, has applied in due form for a permit to import samples from Risso's (Grampus griseus), spinner (Stenella longirostris), and spotted (Stenella frontalis) dolphins and short-finned pilot whales (Globicephala macrorhynchus) for the purpose of scientific research.

DATES: Written, telefaxed, or e-mail comments must be received on or before July 9, 2009.

ADDRESSES: The application and related documents are available for review by selecting “Records Open for Public Comment” from the Features box on the Applications and Permits for Protected Species (APPS) home page, https://apps.nmfs.noaa.gov, and then selecting File No. 14502 from the list of available applications.

These documents are also available upon written request or by appointment in the following office(s):

Permits, Conservation and Education Division, Office of Protected Resources, NMFS, 1315 East-West Highway, Room 13705, Silver Spring, MD 20910; phone (301)713-2289; fax (301)427-2521; and

Southeast Region, NMFS, 263 13th Avenue South, Saint Petersburg, Florida 33701; phone (727)824-5312; fax (727)824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 14502.

FOR FURTHER INFORMATION CONTACT: Jennifer Skidmore or Kristy Beard, (301)713-2289.

SUPPLEMENTARY INFORMATION: The subject permit is requested under the authority of the Marine Mammal Protection Act of 1972, as amended (MMPA; 16 U.S.C. 1361 et seq.) and the regulations governing the taking and importing of marine mammals (50 CFR part 216).

The applicant is requesting a scientific research permit to import muscle, blubber, and teeth samples from Risso's, spinner, and spotted dolphins and short-finned pilot whales collected during the legal cetacean hunts of St. Vincent and the Grenadines. Samples from up to 100 individuals will be imported to the NOAA Center for Coastal Fisheries and Habitat Research in Beaufort, North Carolina, for contaminant analysis (specifically methyl-mercury). No animals will be taken to provide samples for this research and no marine mammals will be incidentally harassed. A permit is requested for three months for the importation of samples to occur.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: June 2, 2009.
Tammy C. Adams,
Acting Chief, Permits, Conservation and Education Division, Office of Protected Resources, National Marine Fisheries Service.

[FR Doc. E9-13368 Filed 6-8-09; 8:45 am]

BILLING CODE P